DEPARTMENT OF THE INTERIOR

Bureau of Land Management

[WY-920-1050-ET; WYW 155144]

Notice of Proposed Withdrawal and Opportunity for Public Meeting; Wyoming

AGENCY: Bureau of Land Management, Interior.

ACTION: Notice.

SUMMARY: The Bureau of Land Management proposes to withdraw 1,360 acres of public land for a period of 20 years to protect important paleontological resources within the Red Gulch Dinosaur Tracksite. This notice segregates the land for up to 2 years from surface entry and mining. The land will remain open to mineral leasing.

EFFECTIVE DATE: Comments and requests for a public meeting must be received on or before April 24, 2003.

ADDRESSES: Comments and meeting requests should be sent to the Wyoming State Director, Bureau of Land Management, P.O. Box 1828, Cheyenne, Wyoming 82003-1828.

FOR FURTHER INFORMATION CONTACT: Janet Booth, BLM Wyoming State Office, 307-775-6124.

SUPPLEMENTARY INFORMATION: The Bureau of Land Management has filed an application to withdraw the following described public land from settlement, sale, location, or entry under the general land laws, including the mining laws, but not the mineral leasing laws, subject to valid existing rights:

Sixth Principal Meridian

T. 52 N., R. 91 W.,

Sec. 17, S½NE¼ and SE¼;

Sec. 20, N½, SE¼, and NE¼SW¼;

Sec. 21, NE¼, W½, N½SE¼, and SW¼SE¼.

The area described contains 1,360 acres in Big Horn County.

The purpose of the proposed withdrawal is to protect important paleontological resources of the Bureau of Land Management's Red Gulch Dinosaur Tracksite located near Shell, Wyoming.

For a period of 90 days from the date of publication of this notice, all persons who wish to submit comments, suggestions, or objections in connection with the proposed withdrawal may present their views in writing to the Wyoming State Director of the Bureau of Land Management.

Notice is hereby given that an opportunity for a public meeting is afforded in connection with the proposed withdrawal. All interested persons who desire a public meeting for the purpose of being heard on the proposed withdrawal should submit a written request to the Wyoming State Director within 90 days from the date of publication of this notice. If the authorized officer determines that a public meeting will be held, a notice of the time and place will be published in the Federal Register at least 30 days before the scheduled date of the meeting.

This application will be processed in accordance with the regulations set forth in 43 CFR part 2300.

For a period of 2 years from the date of publication of this notice in the Federal Register, the land described above will be segregated as specified above unless the application is denied or cancelled or the withdrawal is approved prior to that date. Licenses, permits, cooperative agreements, or discretionary land use authorizations of a temporary nature which would not impact or impair the existing values of the area may be allowed with the approval of an authorized officer of the Bureau of Land Management during the segregative period.

Dated: January 14, 2003.
Alan L. Kesterke,
Associate State Director.

[FR Doc. 03-1542 Filed 1-23-03; 8:45 am]

BILLING CODE 4310-22-P